DEPARTMENT OF HOMELAND SECURITY

Federal Emergency Management Agency

[Docket ID FEMA-2021-0002; Internal Agency Docket No. FEMA-B-2075]

Proposed Flood Hazard Determinations; Correction

AGENCY: Federal Emergency Management Agency; Department of Homeland Security.

ACTION: Notice; correction.

SUMMARY: On January 12, 2021, FEMA published in the Federal Register a proposed flood hazard determination notice that contained an erroneous table. This notice provides corrections to that table to be used in lieu of the erroneous information. The table provided here represents the proposed flood hazard determinations and communities affected for Rice County, Minnesota and Incorporated Areas.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION:

Correction

In the Federal Register of January 12, 2021, in FR Doc. 2021-00399, on page 2433, correct the “Rice County, Minnesota and Incorporated Areas” table to read:

Community | Community map repository address
Rice County, Minnesota and Incorporated Areas
Project: 12-05-2135S Preliminary Date: November 15, 2019
Unincorporated Areas of Rice County | Rice County Government Services Building, 320 Northwest Third Street, Faribault, MN 55021.

Michael M. Grimm,
Assistant Administrator for Risk Management, Department of Homeland Security, Federal Emergency Management Agency.

[FR Doc. 2021-04150 Filed 2-26-21; 8:45 am]

BILLING CODE 9110-12-P